DEPARTMENT OF THE INTERIOR

National Park Service

Notice of Inventory Completion: U.S. Department of Agriculture, Forest Service, Angeles National Forest, Arcadia, CA

AGENCY: National Park Service, Interior.

ACTION: Notice.

Notice is here given in accordance with the Native American Graves Protection and Repatriation Act (NAGPRA), 25 U.S.C. 3003, of the completion of an inventory of human remains in the possession of the U.S. Department of Agriculture, Forest Service, Angeles National Forest, Arcadia, CA. The human remains were removed from Los Angeles County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Angeles National Forest professional staff in consultation with representatives of the San Manuel Band of Serrano Mission Indians of the San Manuel Reservation, California; Santa Ynez Band of Chumash Mission Indians of the Santa Ynez Reservation, California; Native American Heritage Commission; and over 70 individuals representing nonfederally recognized Indian groups.

In November 1974, human remains representing a minimum of two individuals were removed from archeological site 05-01-54-13 (CA-LAn-1301) on Mount Emma in Angeles National Forest, Los Angeles County, CA, during salvage excavations conducted by archeologists from California State University, Dominguez Hills and the Antelope Valley Archaeological Society. The excavations were undertaken in response to Forest Service concerns over the potential for disturbance of human remains that had been exposed on the top of a road cut. Following the excavations, the remains of one individual were curated at California State University, Dominguez Hills until 1994 when they were transferred to Angeles National Forest. The remains of the other individual were curated at Pomona College, Claremont, CA, until 1998 when they were transferred to Angeles National Forest. No known individuals were identified. No associated funerary objects are present.

The tightly flexed form of inhumation in both burials suggests that site 05-01-54-13 is a late Prehistoric period site typical of settlement in the desert foothills of the San Gabriel Mountains. During the late Prehistoric period, inhumation appears to have been practiced in the Tataviam cultural area to the west of Angeles National Forest and in the Desert/Kitanemuk Serrano cultural area to the north and northwest of the forest. Based on burial customs, archeological context, geography, and information obtained during consultation, the individuals are of Native American ancestry. The present-day San Manuel Band of Serrano Mission Indians of the San Manuel Reservation, California traces a shared group identity with the Desert/Kitanemuk Serrano cultural groups that inhabited the area around the site during the late Prehistoric period.

Officials of Angeles National Forest have determined that, pursuant to 25 U.S.C. 3001 (9-10), the human remains described above represent the physical remains of two individuals of Native American ancestry. Officials of Angeles National Forest also have determined that, pursuant to 25 U.S.C. 3001 (2), there is a relationship of shared group identity that can be reasonably traced between the Native American human remains and the San Manuel Band of Serrano Mission Indians of the San Manual Reservation, California.

Representatives of any other Indian tribe that believes itself to be culturally affiliated with the human remains should contact Jody N. Noiron, Forest Supervisor, Angeles National Forest, 701 North Santa Anita Avenue, Arcadia, CA 91006, telephone (626) 574-1613, before October 14, 2004. Repatriation of the human remains to the San Manuel Band of Serrano Mission Indians of the San Manual Reservation, California may proceed after that date if no additional claimants come forward.

Angeles National Forest is responsible for notifying the San Manuel Band of Serrano Mission Indians of the San Manuel Reservation, California; Santa Ynez Band of Chumash Mission Indians of the Santa Ynez Reservation, California; Native American Heritage Commission; and over 70 individuals representing nonfederally recognized Indian groups that this notice has been published.

Dated: July 6, 2004.
John Robbins,
Assistant Director, Cultural Resources.

[FR Doc. 04-20651 Filed 9-13-04; 8:45 am]

BILLING CODE 4312-50-S